DEPARTMENT OF AGRICULTURE

Animal and Plant Health Inspection Service

[Docket No. APHIS-2014-0094]

Availability of a Final Environmental Assessment and Finding of No Significant Impact for the Biological Control of Emerald Ash Borer

AGENCY: Animal and Plant Health Inspection Service, USDA.

ACTION: Notice.

SUMMARY: We are advising the public that the Animal and Plant Health Inspection Service has prepared a final environmental assessment and finding of no significant impact relative to the release of a parasitic wasp, Spathius galinae, into the continental United States for use as a biological control agent to reduce the severity of emerald ash borer infestations. Based on the finding of no significant impact, we have determined that an environmental impact statement need not be prepared.

FOR FURTHER INFORMATION CONTACT: Mr. Robert Tichenor, Entomologist, Pest Permitting Branch, Regulations Permits and Manuals, Plant Health Programs, PPQ, APHIS, 4700 River Road Unit 133, Riverdale, MD 20737-1231; (301) 851-2198.

SUPPLEMENTARY INFORMATION: The emerald ash borer (EAB), Agrilus planipennis, is an invasive wood-boring beetle from Asia threatening ash trees (Fraxinus spp.) in the United States. EAB larvae feed on ash phloem, cutting off the movement of resources within the tree and killing the tree in 4-5 years. EAB is able to attack and kill healthy trees in both natural and urban environments and is well suited for climatic conditions in the continental United States. As a result, EAB infestations have been detected in 24 States: Arkansas, Colorado, Connecticut, Georgia, Illinois, Indiana, Iowa, Kansas, Kentucky, Maryland, Massachusetts, Michigan, Minnesota, Missouri, New Hampshire, New Jersey, New York, North Carolina, Ohio, Pennsylvania, Tennessee, Virginia, West Virginia, and Wisconsin. The Animal and Plant Health Inspection Service (APHIS) is proposing to issue permits for the field release of a parasitic wasp, Spathius galinae, into the continental United States to reduce the severity of EAB infestations.

On February 12, 2015, we published in the Federal Register (80 FR 7827, Docket No. APHIS-2014-0094) a notice ¹ in which we announced the availability, for public review and comment, of an environmental assessment (EA) that examined the potential environmental impacts associated with the proposed release of S. galinae into the continental United States.

¹ To view the notice, the comments we received, the final EA, and the FONSI, go to http://www.regulations.gov/#!docketDetail;D=APHIS-2014-0094.

We solicited comments on the EA for 30 days ending March 16, 2015. We received 10 comments by that date. The comments were from a government agency, State departments of agriculture, an organization of state plant regulatory agencies, and private citizens. Five commenters supported the action and five were opposed. The commenters who were opposed to the action raised issues related to the potential effects the release of S. galinae would have on human and environmental health and post-release monitoring methods. APHIS has provided responses to specific concerns raised by the comments in an appendix to the final EA.

In this document, we are advising the public of our finding of no significant impact (FONSI) regarding the release of S. galinae into the continental United States for use as a biological control agent for EAB. The finding, which is based on the final EA, reflects our determination that release of this biological control agent will not have a significant impact on the quality of the human environment.

The final EA and FONSI may be viewed on Regulations.gov Web site (see footnote 1). Copies of the EA and FONSI are also available for public inspection at USDA, Room 1141, South Building, 14th Street and Independence Avenue SW., Washington, DC, between 8 a.m. and 4:30 p.m., Monday through Friday, except holidays. Persons wishing to inspect copies are requested to call ahead to (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 17th day of August 2015.
Kevin Shea,
Administrator, Animal and Plant Health Inspection Service.

[FR Doc. 2015-20573 Filed 8-19-15; 8:45 am]

BILLING CODE 3410-34-P